DEPARTMENT OF HEALTH AND HUMAN SERVICES

Centers for Medicare & Medicaid Services

[Document Identifier: CMS-10066]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

The notices is being published based on the settlement agreement in Weichardt v. Thompson (Weichardt). Publication of this notice in the Federal Register will occur simultaneously with publication of the proposed regulation CMS-4105-P, that is also based on the Weichardt v. Thompson (Weichardt) agreement.

1. Type of Information Collection Request: New Collection.

Title of Information Collection: Medicare and Medicare Advantage Programs; Notification Procedures for Hospital Discharges—Generic Notice of Hospital Non-Coverage—Detailed Explanation of Hospital Non-Coverage.

Use: Under 42 CFR 405.1205, 405.1206, 422.620, and 422.622, hospitals and Medicare Advantage plans must deliver to beneficiaries and enrollees who are receiving inpatient hospital services, advance notice of discharge on the day before discharge. If the beneficiary chooses to dispute the discharge, the beneficiary is entitled to an expedited determination by a Quality Improvement Organization (QIO) about whether the provider's coverage decision is correct. Upon request for an expedited review of the discharge decision, hospitals and Medicare Advantage plans must deliver detailed notices to the QIO and beneficiaries/enrollees.

Form Number: CMS-10066 (OMB#: 0938-New).

Frequency: Other: Distribution.

Affected Public: Individuals or Households, Business or other for-profit, Not-for-profit institutions and Federal, State, Local or Tribal Government.

Number of Respondents: 6057.

Total Annual Responses: 12,750,000.

Total Annual Hours: 1,461,498.

To obtain copies of the supporting statement and any related forms for the proposed paperwork collections referenced above, access CMS' Web site address at http://www.cms.hhs.gov/PaperworkReductionActof1995, or e-mail your request, including your address, phone number, OMB number, and CMS document identifier, to Paperwork@cms.hhs.gov, or call the Reports Clearance Office on (410) 786-1326.

To be assured consideration, comments and recommendations for the proposed information collections must be received at the address below, no later than 5 p.m. on June 5, 2006.

CMS, Office of Strategic Operations and Regulatory Affairs, Division of Regulations Development—C, Attention: Bonnie L Harkless, Room C4-26-05, 7500 Security Boulevard, Baltimore, Maryland 21244-1850.

Dated: March 21, 2006.
Michelle Shortt,
Director, Regulations Development Group, Office of Strategic Operations and Regulatory Affairs.

[FR Doc. 06-3280 Filed 3-31-06; 4:03 pm]

BILLING CODE 4120-01-P